NATIONAL LABOR RELATIONS BOARD

Sunshine Act Meetings: January 2011

TIME AND DATES: All meetings are held at 2:30 p.m.

Tuesday, January 4; Wednesday, January 5; Thursday, January 6; Friday, January 7; Tuesday, January 11; Wednesday, January 12; Thursday, January 13; Friday, January 14; Tuesday, January 18; Wednesday, January 19; Thursday, January 20; Friday, January 21; Tuesday, January 25; Wednesday, January 26; Thursday, January 27; Friday, January 28.

PLACE: Board Agenda Room, No. 11820, 1099 14th St., NW., Washington DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

CONTACT PERSON FOR MORE INFORMATION: Lester A. Heltzer, Executive Secretary, (202) 273-1067.

Dated: January 5, 2011.
Lester A. Heltzer,
Executive Secretary.

[FR Doc. 2011-260 Filed 1-5-11; 4:15 pm]

BILLING CODE 7545-01-P